DEPARTMENT OF COMMERCE

International Trade Administration

[A-533-906]

Sodium Nitrite From India: Final Affirmative Determination of Sales at Less Than Fair Value

AGENCY: Enforcement and Compliance, International Trade Administration, Department of Commerce.

SUMMARY: The U.S. Department of Commerce (Commerce) determines that sodium nitrite from India is being, or is likely to be, sold in the United States at less than fair value (LTFV).

DATES: Applicable January 6, 2023.

FOR FURTHER INFORMATION CONTACT: Patrick Barton, or Joy Zhang, AD/CVD Operations, Office III, Enforcement and Compliance, International Trade Administration, U.S. Department of Commerce, 1401 Constitution Avenue NW, Washington, DC 20230; telephone: (202) 482-0012 or (202) 482-1168, respectively.

SUPPLEMENTARY INFORMATION:

Background

On August 17, 2022, Commerce published in the Federal Register the preliminary determination.¹ We invited interested parties to comment on the Preliminary Determination. We received comments on the Preliminary Determination from Deepak Nitrite Limited (Deepak) and Chemtrade Chemical US LLC (the petitioner) on November 14 and 15, respectively.² On November 21, 2022, the petitioner submitted a rebuttal brief.³

¹ See Sodium Nitrite from India: Preliminary Affirmative Determination of Sales at Less Than Fair Value, Postponement of Final Determination, and Extension of Provisional Measures, 87 FR 50604 (August 17, 2022) (Preliminary Determination).

² See Deepak's Letter, “Case Brief,” dated November 14, 2022; see also Petitioner's Letter, “Case Brief of Chemtrade Chemical US LLC,” dated November 15, 2022.

³ See Petitioner's Letter, “Rebuttal Brief of Chemtrade Chemical US LLC,” dated November 21, 2022.

Period of Investigation

The period of investigation (POI) is January 1, 2021, through December 31, 2021.

Scope of the Investigation

The product covered by this investigation is sodium nitrite from India. For a complete description of the scope of this investigation, see Appendix I.

Analysis of Comments Received

The issues raised in comments that were submitted by parties in this investigation are addressed in the Issues and Decision Memorandum.⁴ A list of the issues addressed in the Issues and Decision Memorandum is attached to this notice at Appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Decision Memorandum for the Final Affirmative Determination in the Less-Than-Fair-Value Investigation of Sodium Nitrite from India,” dated concurrently with this notice.

Changes Since the Preliminary Determination

Based on the analysis of comments received, we made some changes for the final determination.⁵

⁵ Id. at 2-3.

All-Others Rate

As discussed in the Preliminary Determination, Commerce based the all-others rate on the weighted average dumping margin calculated for Deepak, the only individually examined exporter/producer in this investigation, pursuant to section 735(c)(5)(A) of the Tariff Act of 1930, as amended (the Act).

Final Determination

The final estimated weighted-average dumping margins are as follows:

⁶ See Memorandum, “Final Determination Analysis Memorandum for Deepak Nitrite Limited,” dated concurrently with this notice.

Exporter/producer | Estimated weighted-average dumping margin (percent) | Cash deposit rate (adjusted for subsidy offset(s)) (percent) ⁶
Deepak Nitrite Limited | 44.82 | 42.76
All Others | 44.82 | 42.76

Disclosure

We intend to disclose to interested parties the calculations and analysis performed in this final determination within five days of public announcement or, if there is no public announcement, within five days of the date of publication of this notice in the Federal Register, in accordance with 19 CFR 351.224(b).

Continuation of Suspension of Liquidation

In accordance with section 735(c)(1)(B) of the Act, Commerce will direct U.S. Customs and Border Protection (CBP) to continue to suspend liquidation of entries of subject merchandise, as described in Appendix I of this notice, entered, or withdrawn from warehouse, for consumption on or after August 17, 2022, the date of publication of the affirmative Preliminary Determination in the Federal Register. These suspension of liquidation instructions will remain in effect until further notice.

Pursuant to section 735(c)(1)(B)(ii) of the Act and 19 CFR 351.205(d), upon publication of this notice, we will instruct CBP to require a cash deposit equal to the estimated weighted-average dumping margin or the estimated all-others rate, as follows: (1) the cash deposit rate for Deepak is the company-specific estimated weighted-average dumping margins determined in this final determination; (2) if the exporter is not a company identified above, but the producer is, then the cash deposit rate will be equal to the company-specific estimated weighted-average dumping margin established for that producer of the subject merchandise; and (3) the cash deposit rate for all other producers and exporters will be equal to the all-others estimated weighted-average dumping margin.

U.S. International Trade Commission Notification

In accordance with section 735(d) of the Act, we will notify the U.S. International Trade Commission (ITC) of the final determination of sales at LTFV. Because Commerce's final determination is affirmative, in accordance with section 735(b)(2) of the Act, the ITC will make its final determination as to whether the domestic industry in the United States is materially injured, or threatened with material injury, by reason of imports or sales (or the likelihood of sales) for importation of sodium nitrite no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Administrative Protective Order

This notice will serve as a final reminder to the parties subject to an administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination is issued and published in accordance with sections 735(d) and 777(i)(1) of the Act, and 19 CFR 351.205(c).

Dated: December 30, 2022.
Lisa W. Wang,
Assistant Secretary for Enforcement and Compliance.

Appendix I

Scope of the Investigation

The product covered by this investigation is sodium nitrite in any form, at any purity level. In addition, the sodium nitrite covered by this investigation may or may not contain an anticaking agent. Examples of names commonly used to reference sodium nitrite are nitrous acid, sodium salt, anti-rust, diazotizing salts, erinitrit, and filmerine. Sodium nitrite's chemical composition is NaNO2, and it is generally classified under subheading 2834.10.1000 of the Harmonized Tariff Schedule of the United States (HTSUS). The American Chemical Society Chemical Abstract Service (CAS) has assigned the name “sodium nitrite” to sodium nitrite. The CAS registry number is 7632-00-0. For purposes of the scope of this investigation, the narrative description is dispositive, not the tariff heading, CAS registry number or CAS name, which are provided for convenience and customs purposes.

Appendix II

List of Topics Discussed in the Issues and Decision Memorandum

I. Summary

II. Background

III. Changes Since the Preliminary Determination

IV. Discussion of the Issues

Comment 1: Whether Commerce Should Continue to Find that the Invoice Date is the Appropriate Date of Sale in Both the Home Market and U.S. Market

Comment 2: Whether Certain of Deepak's U.S. Brokerage and Duty Expenses Are Supported by the Record

Comment 3: Whether Purge Liquor Should Be Treated as Co-Product of Sodium Nitrite

Comment 4: The All-Others Rate Calculation

V. Recommendation

[FR Doc. 2023-00072 Filed 1-5-23; 8:45 am]

BILLING CODE 3510-DS-P